COMMISSION ON CIVIL RIGHTS

Sunshine Act Meeting

Agency: U.S. Commission on Civil Rights.

Amended Sunshine Act Notice: Amends previous Federal Register notice published on January 31, 2002, volume 67, number 2.

DATE AND TIME: Friday, Februrary 8, 2002, 8:30 a.m.

PLACE: U.S. Commission on Civil Rights, 624 Ninth Street, NW., Room 540, Washington, DC 20425.

STATUS:

Agenda

I. Approval of Agenda

II. Approval of Minutes of January 11, 2001 Meeting

III. Announcements

IV. Staff Director's Report

V. State Advisory Committee Appointments for Alabama, District of Columbia, Maryland, Virginia, and West Virginia

VI. Report from a Number of SAC Chairs About Activities in Their States

VII. Future Agenda Items

10 a.m. Environmental Justice Hearing (Part II)

CONTACT PERSON FOR FURTHER INFORMATION: Les Jin, Press and Communications (202) 376-8312.

Debra A. Carr,
Deputy General Counsel.

[FR Doc. 02-2965 Filed 2-4-02; 11:48 am]

BILLING CODE 6335-01-M